ENVIRONMENTAL PROTECTION AGENCY

40 CFR Parts 50, 53, and 58

[EPA-HQ-OAR-2001-0017; EPA-HQ-OAR-2004-0018; FRL-8033-6]

RIN 2060-AI44 and RIN 2060-AJ25

Public Hearings for Proposed Rules—National Ambient Air Quality Standards for Particulate Matter and Revisions to Ambient Air Monitoring Regulations

AGENCY: Environmental Protection Agency (EPA).

ACTION: Announcement of public hearings.

SUMMARY: The EPA is announcing three public hearings to be held jointly for two proposed rules—“National Ambient Air Quality Standards for Particulate Matter” and “Revisions to Ambient Air Monitoring Regulations” that were published in the Federal Register on January 17, 2006 (71 FR 2620 and 71 FR 2710). The hearings will be held concurrently in Chicago, Illinois; Philadelphia, Pennsylvania; and San Franciso, California.

In the proposed rule entitled “National Ambient Air Quality Standards for Particulate Matter,” EPA proposes to make revisions to the primary and secondary national ambient air quality standards (NAAQS) for particulate matter (PM) to provide requisite protection of public health and welfare, respectively, and to make corresponding revisions in monitoring reference methods and data handling conventions for PM.

In the “Revisions to Ambient Air Monitoring Regulations,” EPA is proposing to revise the ambient air monitoring requirements for criteria pollutants. The proposal establishes ambient air monitoring requirements in support of the proposed revisions to the NAAQS for PM and proposes other changes to better serve current and future air quality management and research needs.

DATES: The public hearings will be held concurrently on March 8, 2006. Please refer to SUPPLEMENTARY INFORMATION for additional information on the public hearings.

ADDRESSES: The hearings will be held at the following locations:

1. Chicago: Hyatt Regency, 151 E. Wacker Drive, Chicago, IL 60601, 312-565-1234.

2. Philadelphia: Holiday Inn Historic District, 400 Arch Street, Philadelphia, PA 19106, 215-923-8660.

3. San Francisco: Courtyard Marriott San Francisco Downtown, 299 Second Street, San Francisco, CA 94105, (415) 947-0700.

Written comments on these proposed rules may also be submitted to EPA electronically, by mail, by facsimile, or through hand delivery/courier. Please refer to the two proposals for the addresses and detailed instructions.

A complete set of documents related to the two proposals is available for public inspection at the EPA Docket Center, located at 1301 Constitution Avenue, NW., Room B102, Washington, DC between 8:30 a.m. and 4:30 p.m., Monday through Friday, excluding legal holidays. A reasonable fee may be charged for copying. Documents are also available through the electronic docket system at http://www.regulations.gov.

The EPA Web site for the rulemakings, which includes the proposals and information about the public hearings, can be found at: http://www.epa.gov/air/particlepollution/actions.html.

for further information contact: If you would like to speak at the public hearings or have questions concerning the public hearings, please contact Ms. Tricia Crabtree at the address given below under supplementary information.

Questions concerning the “National Ambient Air Quality Standards for Particulate Matter” proposed rule should be addressed to Dr. Erika Sasser, U.S. EPA, Office of Air Quality Planning and Standards, Health and Environmental Impacts Division, (C504-01), Research Triangle Park, NC 27711, telephone number (919) 541-3889, e-mail at sasser.erika@epa.gov.

Questions concerning the “Revisions to Ambient Air Monitoring Regulations” proposed rule should be addressed to the following individuals. For general questions, please contact Mr. Lewis Weinstock, U.S. EPA, Office of Air Quality Planning and Standards, Air Quality Assessment Division (D243-02), Research Triangle Park, NC 27711, telephone number (919) 541-3661, e-mail at weinstock.lewis@epa.gov. For technical questions, please contact Mr. Tim Hanley, U.S. EPA, Office of Air Quality Planning and Standards, Air Quality Assessment Division (D243-02), Research Triangle Park, NC 27711, telephone number (919) 541-4117, e-mail at hanley.tim@epa.gov.

supplementary information: The two proposals for which EPA is holding the public hearings were published in the Federal Register on January 17, 2006 and are available on the following Web site http://www.epa.gov/air/particlepollution/actions.html. The public hearings will provide interested parties the opportunity to present data, views, or arguments concerning the proposed rules. The EPA may ask clarifying questions during the oral presentations, but will not respond to the presentations at that time. Written statements and supporting information submitted during the comment period will be considered with the same weight as any oral comments and supporting information presented at the public hearings. Written comments must be postmarked by the last day of the comment period, April 17, 2006, as specified in the two proposals.

The three public hearings will be held concurrently in Chicago, Illinois; Philadelphia, Pennsylvania; and San Francisco, California. The public hearings will begin each day at 9 a.m. (local time) and continue into the evening until 9 p.m., or later if necessary, depending on the number of speakers wishing to participate. The EPA will make every effort to accommodate all speakers that arrive and register before 9 p.m. The EPA is scheduling lunch breaks from 12:30 until 2 p.m. and dinner breaks from 6 p.m. to 7:30 p.m. If you would like to present oral testimony at the hearings, please notify Ms. Tricia Crabtree, (C504-01) U.S. Environmental Protection Agency, Research Triangle Park, NC 27711, crabtree.tricia@epa.gov, (919) 541-5688. She will arrange a general time slot for you to speak. The EPA will make every effort to follow the schedule as closely as possible on the day of the hearings.

Oral testimony will be limited to five (5) minutes for each commenter to address either or both proposals. We will not be providing equipment for commenters to show overhead slides or make computerized slide presentations unless we receive special requests in advance. Commenters should notify Ms. Tricia Crabtree if they will need specific equipment. The EPA encourages commenters to provide written versions of their oral testimonies either electronically on computer disk or CD-ROM or in paper copy.

The hearing schedules, including lists of speakers, will be posted on EPA's Web pages for the proposals at http://www.epa.gov/air/particlepollution/actions.html prior to the hearings. Verbatim transcripts of the hearings and written statements will be included in the rulemaking dockets.

How Can I Get Copies of This Document and Other Related Information?

The EPA has established the official public docket for the “National Ambient Air Quality Standards for Particulate Matter” under Docket Number EPA-HQ-OAR-2001-0017. The EPA has established the official public docket for the “Revisions to Ambient Air Monitoring Regulations” under Docket Number EPA-HQ-OAR-2004-0018. The EPA has also developed Web sites for the two proposals at the addresses given above. Please refer to the two proposals, which were published in the Federal Register on January 17, 2006, for detailed information on accessing information related to each of the proposals.

Dated: February 9, 2006.
Jeffrey S. Clark,
Acting Director, Office of Air Quality Planning and Standards.

[FR Doc. 06-1462 Filed 2-15-06; 8:45 am]

BILLING CODE 6560-50-M